DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed reinstatement of the “National Longitudinal Survey of Youth 1979.” A copy of the proposed information collection request (ICR) can be obtained by contacting the individual listed in the Addresses section of this notice.

DATES: Written comments must be submitted to the office listed in the Addresses section below on or before March 12, 2007.

ADDRESSES: Send comments to Amy A. Hobby, BLS Clearance Officer, Division of Management Systems, Bureau of Labor Statistics, Room 4080, 2 Massachusetts Avenue, NE., Washington, DC 20212, 202-691-7628. (This is not a toll free number.)

FOR FURTHER INFORMATION CONTACT: Amy A. Hobby, BLS Clearance Officer, 202-691-7628. (See Addresses section.)

SUPPLEMENTARY INFORMATION:

I. Background

The National Longitudinal Survey of Youth 1979 (NLSY79) is a nationally representative survey of people who were born in the years 1957 to 1964 and lived in the U.S. when the survey began in 1979. NLSY79 participants were interviewed annually from 1979 to 1994 and have been interviewed every two years since 1994. The focus of the survey is labor market experiences, but the survey also covers topics that affect or are affected by labor market activity. These topics include education, training, marital and family relationships, fertility, childcare, health, substance use, and others.

The Bureau of Labor Statistics (BLS) contracts with the National Opinion Research Center (NORC) of the University of Chicago to conduct the NLSY79. Prior to each round of the NLSY79, a pretest has been conducted with a separate, smaller sample to help ensure the proper functioning of questionnaires, procedures, and systems and to rectify any problems before the main fielding of the NLSY79. Over time, the size of the pretest sample has declined significantly, and the characteristics of pretest participants now differ so sharply from the characteristics of most NLSY79 participants that the pretest no longer is a useful tool to detect and remedy problems with the survey. For this reason, the BLS and its contractors have decided to replenish the pretest sample.

One of the goals of the Department of Labor (DOL) is to produce and disseminate timely, accurate, and relevant information about the U.S. labor force. The BLS contributes to this goal by gathering information about the labor force and labor market and disseminating it to policymakers and the public so that participants in those markets can make more informed, and thus more efficient, choices. Research based on the NLSY79 contributes to the formation of national policy in the areas of education, training, employment programs, and school-to-work transitions. In addition to the reports that the BLS produces based on data from the NLSY79, members of the academic community publish articles and reports based on NLSY79 data for the DOL and other funding agencies. The survey design provides data gathered from the same respondents over time to form the only data set that contains this type of intergenerational information for these important population groups. Without the collection of these data, an accurate longitudinal data set could not be provided to researchers and policymakers, thus adversely affecting the DOL's ability to perform its policy- and report-making activities.

II. Current Action

The BLS seeks approval to conduct interviews to replenish the pretest sample of the NLSY79. The process of replenishing the sample requires new sample members to be interviewed during the summer of 2007. The information obtained from this interview will be used for an input file during the NLSY79 Round 23 pretest that is planned for October 2007. Because the NLSY79 is longitudinal, the questions that respondents are asked in one round sometimes depend on the responses they provided in previous rounds. The summer 2007 interview is necessary to obtain information that will enable all questions to function properly in the October 2007 pretest. At an appropriate later date, the BLS will request approval to conduct the regular pretest and main fielding for Round 23 of the NLSY79.

The expanded pretest sample will add 100 cooperative respondents born in the years 1957 to 1964. The sample will be selected from a targeted telephone list of approximately 1,000 numbers that is maintained in the NORC telephone center system. To make the dialing effort more efficient, NORC will screen its list for phone numbers that are no longer working or that are associated with businesses. The new sample members will be dispersed across rural, suburban, and urban tracts within 40 miles of Chicago. The sample will be targeted across these different types of tracts based on the area codes selected for the replenishment effort.

By design, the replenished pretest sample will be one of convenience rather than one used to produce nationally representative estimates. The sample characteristics will be constrained only by the birth year, but the BLS and its contractors will seek a diverse mix of men and women across racial and ethnic groups. Employed individuals also will be targeted so that the pretest can effectively examine the most critical NLSY79 questionnaire paths, which relate to employment.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Reinstatement, with change, of a previously approved collection for which approval has expired.

Agency: Bureau of Labor Statistics.

Title: National Longitudinal Survey of Youth 1979.

OMB Number: 1220-0109.

Affected Public: Individuals or households.

Form | Total respondents | Frequency | Total responses | Average time per response | Estimated total burden
NLSY79 Pretest Sample Replenishment Screener | 1,000 | Once | 1,000 | 3 minutes | 50 hours.
NLSY79 Pretest Sample Replenishment Interview | 100 | Once | 100 | 15 minutes | 25 hours.
Totals | 1,100 |  | 1,100 |  | 75 hours.
Note: In some cases, the respondents for the replenishment interview will be the same people who responded to the screener. These respondents could be different people, however. For example, one spouse who was not born in the years 1957 to 1964 and therefore is ineligible for the pretest sample may respond to the screener questions, while the other spouse who is eligible for the pretest sample responds to the replenishment interview.

Total Burden Cost (capital/startup): $0.

Total Burden Cost (operating/maintenance): $0.

Comments submitted in response to this notice will be summarized and/or included in the request for Office of Management and Budget approval of the information collection request; they also will become a matter of public record.

Signed at Washington, DC, this 5th day of January 2007.
Cathy Kazanowski,
Chief, Division of Management Systems, Bureau of Labor Statistics.

[FR Doc. E7-162 Filed 1-10-07; 8:45 am]

BILLING CODE 4510-24-P